DEPARTMENT OF ENERGY

Federal Energy Regulatory Commission

Combined Notice of Filings

Take notice that the Commission has received the following Natural Gas Pipeline Rate and Refund Report filings:

Filings Instituting Proceedings

Docket Numbers: RP21-1086-000.

Applicants: Alliance Pipeline L.P.

Description: § 4(d) Rate Filing: Negotiated Rates—Various September 1 Capacity Releases to be effective 9/1/2021.

Filed Date: 9/1/21.

Accession Number: 20210901-5072.

Comment Date: 5 p.m. ET 9/13/21.

Docket Numbers: RP21-1087-000.

Applicants: Equitrans, L.P.

Description: § 4(d) Rate Filing: Negotiated Rate Capacity Release Agreements—9/1/2021 to be effective 9/1/2021.

Filed Date: 9/1/21.

Accession Number: 20210901-5075.

Comment Date: 5 p.m. ET 9/13/21.

Docket Numbers: RP21-1088-000.

Applicants: Gulf South Pipeline Company, LLC.

Description: § 4(d) Rate Filing: Cap Rel Neg Rate Agmts (Marathon releasese effective 9-1-2021) to be effective 9/1/2021.

Filed Date: 9/1/21.

Accession Number: 20210901-5090.

Comment Date: 5 p.m. ET 9/13/21.

Docket Numbers: RP21-1089-000.

Applicants: Texas Eastern Transmission, LP.

Description: § 4(d) Rate Filing: Negotiated Rate—UGI Energy 8967380 eff 09-01-2021 to be effective 9/1/2021.

Filed Date: 9/1/21.

Accession Number: 20210901-5092.

Comment Date: 5 p.m. ET 9/13/21.

Docket Numbers: RP21-1090-000.

Applicants: NEXUS Gas Transmission, LLC.

Description: § 4(d) Rate Filing: Negotiated Rates—Releases eff 09-01-2021 to be effective 9/1/2021.

Filed Date: 9/1/21.

Accession Number: 20210901-5094.

Comment Date: 5 p.m. ET 9/13/21.

Docket Numbers: RP21-1091-000.

Applicants: NEXUS Gas Transmission, LLC.

Description: § 4(d) Rate Filing: Negotiated Rate—Amended DTE Gas 860003 eff 9-1-2021 to be effective 9/1/2021.

Filed Date: 9/1/21.

Accession Number: 20210901-5097.

Comment Date: 5 p.m. ET 9/13/21.

Docket Numbers: RP21-1092-000.

Applicants: Gulf South Pipeline Company, LLC.

Description: § 4(d) Rate Filing: Amendment to Neg Rate Agmt and Cap Rel Agmt (Calyx 51762) to be effective 9/1/2021.

Filed Date: 9/1/21.

Accession Number: 20210901-5102.

Comment Date: 5 p.m. ET 9/13/21.

Docket Numbers: RP21-1093-000.

Applicants: Enable Gas Transmission, LLC.

Description: § 4(d) Rate Filing: Adding Firm PALS Option Under Rate Schedule PHS to be effective 10/1/2021.

Filed Date: 9/1/21.

Accession Number: 20210901-5153.

Comment Date: 5 p.m. ET 9/13/21.

Docket Numbers: RP21-1094-000.

Applicants: NEXUS Gas Transmission, LLC.

Description: § 4(d) Rate Filing: NEXUS Tariff Modification—ACA Unit Charge to be effective 10/1/2021.

Filed Date: 9/1/21.

Accession Number: 20210901-5176.

Comment Date: 5 p.m. ET 9/13/21.

Docket Numbers: RP21-1095-000.

Applicants: MIGC LLC.

Description: § 4(d) Rate Filing: 2021 Annual Fuel Tracker/Waiver Request to be effective 10/1/2021.

Filed Date: 9/1/21.

Accession Number: 20210901-5182.

Comment Date: 5 p.m. ET 9/13/21.

Docket Numbers: RP11-2473-000.

Applicants: Gulf South Pipeline Company, LP.

Description: Refund Report: Gulf South Pipeline Company, LLC submits tariff filing per 154.501: 2021 Annual CICO Filing to be effective N/A.

Filed Date: 9/1/21.

Accession Number: 20210901-5088.

Comment Date: 5 p.m. ET 9/13/21.

Docket Numbers: RP21-525-003.

Applicants: Midwestern Gas Transmission Company.

Description: Compliance filing: Motion to Place Unrevised Suspended Tariff Records into Effect to be effective 9/1/2021.

Filed Date: 9/1/21.

Accession Number: 20210901-5081.

Comment Date: 5 p.m. ET 9/13/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2021.
Kimberly D. Bose,
Secretary.

[FR Doc. 2021-19457 Filed 9-7-21; 8:45 am]

BILLING CODE 6717-01-P